DEPARTMENT OF ENERGY

Federal Energy Regulatory Commission

Combined Notice of Filings #1

Take notice that the Commission received the following electric rate filings:

Docket Numbers: ER13-265-001.

Applicants: Nevada Power Company.

Description: Rate Schedule No. 134 Interim Balancing Area Services—Settlement Agmt—VEA to be effective 11/1/2012.

Filed Date: 7/19/13.

Accession Number: 20130719-5000.

Comments Due: 5 p.m. ET 8/9/13.

Docket Numbers: ER13-1996-000.

Applicants: Southwest Power Pool, Inc.

Description: Revisions to Attachment T Updating City Utilities of Springfield, MO to be effective 10/1/2013.

Filed Date: 7/19/13.

Accession Number: 20130719-5067.

Comments Due: 5 p.m. ET 8/9/13.

Docket Numbers: ER13-1997-000.

Applicants: Southern California Edison Company.

Description: Letter Agreement Between LADWP and SCE for Fringe Additional Facilities to be effective 7/16/2013.

Filed Date: 7/19/13.

Accession Number: 20130719-5086.

Comments Due: 5 p.m. ET 8/9/13.

Take notice that the Commission received the following PURPA 210(m)(3) filings:

Docket Numbers: QM13-2-001.

Applicants: PPL Electric Utilities Corporation.

Description: Amendment to May 17, 2013 Application to Terminate Purchase Obligation of PPL Electric Utilities Corporation.

Filed Date: 7/19/13.

Accession Number: 20130719-5050.

Comments Due: 5 p.m. ET 8/16/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 19, 2013.
Nathaniel J. Davis, Sr.,
Deputy Secretary.

[FR Doc. 2013-18040 Filed 7-26-13; 8:45 am]

BILLING CODE 6717-01-P